DEPARTMENT OF LABOR

Occupational Safety and Health Administration

[Docket No. NRTL1-88]

MET Laboratories, Inc., Expansion of Recognition

AGENCY: Occupational Safety and Health Administration (OSHA), Labor.

ACTION: Notice.

SUMMARY: This notice announces the Agency's final decision on the application of MET Laboratories, Inc., for expansion of its recognition as a Nationally Recognized Testing Laboratory (NRTL). MET's expansion covers the use of additional standards.

EFFECTIVE DATE: The expansion becomes effective on September 26, 2001 and continues in effect while OSHA recognizes MET as an NRTL under 29 CFR 1910.7.

FOR FURTHER INFORMATION CONTACT: Bernard Pasquet, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the expansion of recognition of MET Laboratories, Inc., (MET) as a Nationally Recognized Testing Laboratory (NRTL). MET's expansion covers the use of additional test standards. The NRTL's current scope of recognition may be found in OSHA's informational web page for the NRTL (http://www.osha-slc.gov/dts/otpca/nrtl/met.html).

OSHA recognition of an NRTL signifies that the organization has met the legal requirements in § 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope.

MET submitted a request, dated January 16, 2001 (see Exhibit 24), to expand its recognition as an NRTL to include 32 additional test standards. OSHA published the required notice in the Federal Register on July 11, 2001 (66 FR 36333), to announce MET's expansion request. This notice included a preliminary finding that MET could meet the requirements in 29 CFR 1910.7 for expansion of its recognition and invited public comment by July 26, 2001. OSHA received no comments concerning this notice.

In processing this request, OSHA did not perform an on-site review of MET's NRTL testing facilities. However, NRTL Program assessment staff reviewed information pertinent to the request and, in a memo dated February 28, 2001 (see Exhibit 25), recommended the expansion of MET's recognition to include the additional test standards listed below.

The most recent notices published by OSHA for MET's recognition, prior to the July 11 preliminary notice, covered an expansion of recognition, which OSHA announced on November 10, 1998 (63 FR 63085), and granted on March 9, 1999 (64 FR 11502).

You may obtain or review copies of all public documents pertaining to the MET application by contacting the Docket Office, Occupational Safety and Health Administration, U.S. Department of Labor, 200 Constitution Avenue, NW., Room N2625, Washington, DC 20210. You should refer to Docket No. NRTL1-88, the permanent record of public information on the MET recognition.

The current address of the MET testing facilities already recognized by OSHA is: MET Laboratories, Inc., 914 West Patapsco Avenue, Baltimore, Maryland 21230.

Final Decision and Order

The NRTL Program staff has examined the application, the assessor's memo, and other pertinent information. Based upon this examination and the assessor's recommendation, OSHA finds that MET Laboratories, Inc., has met the requirements of 29 CFR 1910.7 for expansion of its NRTL recognition. The expansion covers the test standards listed below, and it is subject to the limitations and conditions, also listed below. Pursuant to the authority in 29 CFR 1910.7, OSHA hereby expands the recognition of MET, subject to these limitations and conditions.

Limitations

OSHA limits the expansion of recognition of MET to testing and certification of products for demonstration of conformance to the following 32 additional test standards. OSHA has determined that each standard meets the requirements for an appropriate test standard, within the meaning of 29 CFR 1910.7(c). The NRTL Program staff makes such determinations in processing applications from any NRTL.

UL 45 Portable Electric Tools

UL 506 Specialty Transformers

UL 745-1 Portable Electric Tools

UL 745-2-1 Particular Requirements of Drills

UL 745-2-2 Particular Requirements for Screwdrivers and Impact Wrenches

UL 745-2-3 Particular Requirements for Grinders, Polishers, and Disk-Type Sanders

UL 745-2-4 Particular Requirements for Sanders

UL 745-2-5 Particular Requirements for Circular Saws and Circular Knives

UL 745-2-6 Particular Requirements for Hammers

UL 745-2-8 Particular Requirements for Shears and Nibblers

UL 745-2-9 Particular Requirements for Tappers

UL 745-2-11 Particular Requirements for Reciprocating Saws

UL 745-2-12 Particular Requirements for Concrete Vibrators

UL 745-2-14 Particular Requirements for Planers

UL 745-2-17 Particular Requirements for Routers and Trimmers

UL 745-2-30 Particular Requirements for Staplers

UL 745-2-31 Particular Requirements for Diamond Core Drills

UL 745-2-32 Particular Requirements for Magnetic Drill Presses

UL 745-2-33 Particular Requirements for Portable Bandsaws

UL 745-2-34 Particular Requirements for Strapping Tools

UL 745-2-35 Particular Requirements for Drain Cleaners

UL 745-2-36 Particular Requirements for Hand Motor Tools

UL 745-2-37 Particular Requirements for Plate Jointers

UL 935 Fluorescent-Lamp Ballasts

UL 1026 Electric Household Cooking and Food Serving Appliances

UL 1028 Hair Clipping and Shaving Appliances

UL 1083 Household Electric Skillets and Frying-Type Appliances

UL 1236 Battery Chargers for Charging Engine-Starter Batteries

UL 1431 Personal Hygiene and Health Care Appliances

UL 1585 Class 2 and Class 3 Transformers

UL 1786 Nightlights

UL 1993 Self-Ballasted Lamps and Lamp Adapters

The designations and titles of the above test standards were current at the time of the preparation of the notice of the preliminary finding.

Many of the test standards listed above are approved as American National Standards by the American National Standards Institute (ANSI). However, for convenience in compiling the list, we show the designation of the standards developing organization (e.g., UL 1028) for the standard, as opposed to the ANSI designation (e.g., ANSI/UL 1028). Under our procedures, an

NRTL recognized for an ANSI-approved test standard may use either the latest proprietary version of the test standard or the latest ANSI version of that standard, regardless of which version appears in the list of test standards found in OSHA's informational web page for the NRTL. Contact ANSI or the ANSI web site (www.ansi.org) and click “NSSN” to find out whether or not a standard is currently ANSI-approved.

Conditions

MET Laboratories, Inc., must also abide by the following conditions of the recognition, in addition to those already required by 29 CFR 1910.7:

OSHA must be allowed access to the MET facility and records for purposes of ascertaining continuing compliance with the terms of its recognition and to investigate as OSHA deems necessary;

If MET has reason to doubt the efficacy of any test standard it is using under this program, it must promptly inform the organization that developed the test standard of this fact and provide that organization with appropriate relevant information upon which its concerns are based;

MET must not engage in or permit others to engage in any misrepresentation of the scope or conditions of its recognition. As part of this condition, MET agrees that it will allow no representation that it is either a recognized or an accredited Nationally Recognized Testing Laboratory (NRTL) without clearly indicating the specific equipment or material to which this recognition is tied, or that its recognition is limited to certain products;

MET must inform OSHA as soon as possible, in writing, of any change of ownership, facilities, or key personnel, and of any major changes in its operations as an NRTL, including details;

MET will continue to meet all the terms of its recognition and will always comply with all OSHA policies pertaining to this recognition; and

MET will continue to meet the requirements for recognition in all areas where it has been recognized.

Signed at Washington, DC this 18th day of September, 2001.
John L. Henshaw,
Assistant Secretary.

[FR Doc. 01-24026 Filed 9-25-01; 8:45 am]

BILLING CODE 4510-26-P